Title 3—

The President

Proclamation 8515 of May 6, 2010

Military Spouse Appreciation Day, 2010

By the President of the United States of America

A Proclamation

When Americans answer the call to serve in our Armed Forces, a sacred trust is forged. Our men and women in uniform take on the duty of protecting us all, and their spouses and families also help shoulder this important responsibility. As we mark Military Spouse Appreciation Day, we reaffirm our steadfast commitment to supporting and honoring the husbands, wives, and loved ones of our Nation’s servicemembers.

At the heart of our Armed Forces, servicemembers’ spouses keep our military families on track. They balance family life, military life, and their careers—all while supporting other military families and giving back to their communities. Many have served in uniform themselves and, understanding the obligations involved, can provide unparalleled support. They are pillars of strength in their families, often celebrating their children’s life milestones while the other parent is away.

Military spouses also care for our wounded warriors and honor the memory of our Nation’s fallen heroes, including their own loved ones. They impact countless lives on military bases and in schools, places of worship, and neighborhoods across our Nation. Their contributions help protect our freedom by strengthening our communities and our servicemembers.

My Administration is committed to improving opportunities and quality of life for these brave spouses and families who know the separation and stress of war. We are increasing servicemembers’ compensation as well as funding for better housing, job training, counseling, outreach, and support for spouses and their families. We are also expanding our ground forces to reduce the strain of repeated deployments, and to give servicemembers more time with their loved ones.

There are many ways for each of us to show our appreciation for military spouses. Working through community-based organizations, workplaces, schools, and places of worship, we can help them support their families, establish or build a career, and address the unique challenges they face.

I am inspired every day by our men and women in uniform and their families. They are America’s greatest military asset, and my Administration is committed to fulfilling our obligations to them. Today, let us honor the spouses and families who support our servicemembers and, in doing so, help defend our Nation and preserve our liberty.

NOW, THEREFORE, I, BARACK OBAMA, President of the United States of America, by virtue of the authority vested in me by the Constitution and the laws of the United States, do hereby proclaim May 7, 2010, as Military Spouse Appreciation Day. I call upon the people of the United States to honor military spouses with appropriate ceremonies and activities.

IN WITNESS WHEREOF, I have hereunto set my hand this sixth day of May, in the year of our Lord two thousand ten, and of the Independence of the United States of America the two hundred and thirty-fourth.

[FR Doc. 2010-11327

Filed 5-10-10; 8:45 am]

Billing code 3195-W0-P